DEPARTMENT OF TRANSPORTATION

Federal Aviation Administration

14 CFR Part 39

[Docket No. FAA-2007-0198; Directorate Identifier 2007-CE-085-AD; Amendment 39-15262; AD 2007-23-16]

RIN 2120-AA64

Airworthiness Directives; Cessna Aircraft Company, Model 525B Airplanes

AGENCY: Federal Aviation Administration (FAA), DOT.

ACTION: Final rule; request for comments.

SUMMARY: The FAA is adopting a new airworthiness directive (AD) for certain Cessna Aircraft Company (Cessna) Model 525B airplanes. This AD requires you to incorporate electrical power relay circuit protection kit part number (P/N) SB525B-24-02. This AD results from both the need to protect aircraft wiring left unprotected in the original design and a report of a Model 525B airplane experiencing in-flight loss of numerous systems, tripped circuit breakers, and burned wiring adjacent to the power distribution panel. We are issuing this AD to correct an incorrect wiring installation and to provide short-circuit protection for all wiring from the aircraft power distribution system. This condition could result in burned wiring and loss of various aircraft electrical systems.

DATES: This AD becomes effective on December 19, 2007.

On December 19, 2007, the Director of the Federal Register approved the incorporation by reference of certain publications listed in this AD.

We must receive any comments on this AD by January 22, 2008.

ADDRESSES: Use one of the following addresses to comment on this AD.

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

To get the service information identified in this AD, contact The Cessna Aircraft Company, Product Support, P.O. Box 7706, Wichita, Kansas 67277-7706; telephone: (316) 517-5800; fax: (316) 942-9006.

To view the comments to this AD, go to http://www.regulations.gov. The docket number is FAA-2007-0198; Directorate Identifier 2007-CE-085-AD.

FOR FURTHER INFORMATION CONTACT: Raymond N. Johnston, Aerospace Engineer, 1801 Airport Road, Room 100, Wichita, Kansas 67209; telephone: (316) 946-4197; fax: (316) 946-4107.

SUPPLEMENTARY INFORMATION:

Discussion

Cessna issued Service Bulletin SB525B-24-02, dated January 10, 2007, to add fuses to the emergency electrical power relay circuits to protect aircraft wiring left unprotected in the original design. Since issuance of that service bulletin, the FAA received a report from Cessna of a Model 525B airplane experiencing an in-flight direct short between aircraft direct current (DC) power and ground with loss of numerous systems, tripped circuit breakers, and burned wiring adjacent to the power distribution panel.

Cessna determined that a wiring alteration done following Cessna Citation Service Bulletin SB525B-24-02, dated January 10, 2007, contributed to this direct short between aircraft DC power and ground. The service bulletin had incorrect alteration instructions, which if implemented, could cause a direct short between aircraft DC power and ground.

Failure or opening of power bus limiters in conjunction with incorporation of that service bulletin may result in loss of numerous systems and burned aircraft wiring. The instructions and wiring diagrams call for incorrectly connecting 28V DC to an annunciator panel where there should be a ground. Terminal 2 of circuit breaker HZ050 is left with no wiring connected. This results in a direct short.

Cessna revised the service bulletin to include correct alteration instructions that would fully address the unsafe condition of unprotected wiring in the original design.

This condition, if not corrected, could result in burned wiring and loss of various aircraft electrical systems.

Relevant Service Information

We reviewed Cessna Citation Service Bulletin SB525B-24-02, Revision 1, dated October 4, 2007. The service information describes procedures for incorporating electrical power relay circuit protection kit P/N SB525B-24-02. The manufacturer intends that the actions specified in the service information adequately address the unsafe condition.

FAA's Determination and Requirements of this AD

We are issuing this AD because we evaluated all the information and determined the unsafe condition described previously is likely to exist or develop on other products of the same type design. This AD requires you to incorporate electrical power relay circuit protection kit P/N SB525B-24-02.

In preparing this rule, we contacted type clubs and aircraft operators to get technical information and information on operational and economic impacts. We did not receive any information through these contacts. If received, we would have included a discussion of any information that may have influenced this action in the rulemaking docket.

FAA's Determination of the Effective Date

An unsafe condition exists that requires the immediate adoption of this AD. The FAA has found that the risk to the flying public justifies waiving notice and comment prior to adoption of this rule because this condition, if not corrected, could result in burned wiring and loss of various aircraft electrical systems. Therefore, we determined that notice and opportunity for public comment before issuing this AD are impracticable and that good cause exists for making this amendment effective in fewer than 30 days.

Comments Invited

This AD is a final rule that involves requirements affecting flight safety, and we did not precede it by notice and an opportunity for public comment. We invite you to send any written relevant data, views, or arguments regarding this AD. Send your comments to an address listed under the ADDRESSES section. Include the docket number “FAA-2007-0198; Directorate Identifier 2007-CE-085-AD” at the beginning of your comments. We specifically invite comments on the overall regulatory, economic, environmental, and energy aspects of the AD. We will consider all comments received by the closing date and may amend the AD in light of those comments.

We will post all comments we receive, without change, to http://www.regulations.gov, including any personal information you provide. We will also post a report summarizing each substantive verbal contact we receive concerning this AD.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket.

Examining the AD Docket

You may examine the AD docket that contains the AD, the regulatory evaluation, any comments received, and other information on the Internet at http://www.regulations.gov; or in person at the Docket Management Facility between 9 a.m. and 5 p.m., Monday through Friday, except Federal holidays. The Docket Office (telephone (800) 647-5527) is located at the street address stated in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2007-23-16 Cessna Aircraft Company: Amendment 39-15262; Docket No. FAA-2007-0198; Directorate Identifier 2007-CE-085-AD.

Effective Date

(a) This AD becomes effective on December 19, 2007.

Affected ADs

(b) None.

Applicability

(c) This AD applies to Model 525B, serial numbers 0001 through 0013 airplanes, that are certificated in any category.

Unsafe Condition

(d) This AD results from both the need to protect aircraft wiring left unprotected in the original design and a report of a Model 525B airplane experiencing in-flight loss of numerous systems, tripped circuit breakers, and burned wiring adjacent to the power distribution panel. We are issuing this AD to correct an incorrect wiring installation and to provide short-circuit protection for all wiring from the aircraft power distribution system. This condition could result in burned wiring and loss of various aircraft electrical systems.

Compliance

(e) To address this problem, you must do the following, unless already done:

Actions | Compliance | Procedures
Incorporate electrical power relay circuit protection kit part number SB525B-24-02 | At whichever of the following occurs first: (1) Within the next 30 days after December 19, 2007 (the effective date of this AD); or | Follow Cessna Citation Service Bulletin SB525B-24-02, Revision 1, dated October 4, 2007.
| (2) Within the next 10 hours time-in-service after December 19, 2007 (the effective date of this AD).

Alternative Methods of Compliance (AMOCs)

(f) The Manager, Wichita Aircraft Certification Office (ACO), FAA, has the authority to approve AMOCs for this AD, if requested using the procedures found in 14 CFR 39.19. Send information to ATTN: Raymond N. Johnston, Aerospace Engineer, Wichita ACO, 1801 Airport Road, Room 100, Wichita, Kansas 67209; telephone: (316) 946-4197; fax: (316) 946-4107. Before using any approved AMOC on any airplane to which the AMOC applies, notify your appropriate principal inspector (PI) in the FAA Flight Standards District Office (FSDO), or lacking a PI, your local FSDO.

Material Incorporated by Reference

(g) You must use Cessna Citation Service Bulletin SB525B-24-02, Revision 1, dated October 4, 2007, to do the actions required by this AD, unless the AD specifies otherwise.

(1) The Director of the Federal Register approved the incorporation by reference of this service information under 5 U.S.C. 552(a) and 1 CFR part 51.

(2) For service information identified in this AD, contact Cessna Aircraft Company, Product Support, P.O. Box 7706, Wichita, Kansas 67277-7706; telephone: (316) 517-5800; fax: (316) 942-9006.

(3) You may review copies at the FAA, Central Region, Office of the Regional Counsel, 901 Locust, Kansas City, Missouri 64106; or at the National Archives and Records Administration (NARA). For information on the availability of this material at NARA, call 202-741-6030, or go to: http://www.archives.gov/federal_register/code_of_federal_regulations/ibr_locations.html.

Issued in Kansas City, Missouri, on November 7, 2007.
John R. Colomy,
Acting Manager, Small Airplane Directorate, Aircraft Certification Service.

[FR Doc. E7-22304 Filed 11-19-07; 8:45 am]

BILLING CODE 4910-13-P